DEPARTMENT OF JUSTICE

Notice of Lodging of Proposed Amended Consent Decree Under the Clean Air Act

On March 1, 2021, the Department of Justice simultaneously filed a Complaint and lodged a proposed Consent Decree with the United States District Court for the Northern District of Indiana in the lawsuit entitled United States and the State of Indiana v. Steel Dynamics, Inc., Civil Action No. 1:21-cv-86.

The United States and the State of Indiana filed a complaint against Steel Dynamics, Inc. (“Steel Dynamics”) alleging violation of the Clean Air Act (“CAA”) at Steel Dynamic's Flat Roll Division and Iron Dynamics Division. The proposed Consent Decree resolves the claims in the Complaint by requiring Steel Dynamics to install a new 300,000 actual cubic feet per minute baghouse to control emissions from the Flat Roll Division's three ladle metallurgical stations and to take steps to improve its recordkeeping and monitoring. Additionally, Steel Dynamics will pay a civil penalty of $475,000 to be split even with the United States and the State of Indiana.

The publication of this notice opens a period for public comment on the Amended Consent Decree. Comments should be addressed to the Assistant Attorney General, Environment and Natural Resources Division, and should refer to United States et al. v. Steel Dynamics, D.J. Ref. No. 90-5-2-1-11451. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Amended Consent Decree may be examined and downloaded at this Justice Department website: https://www.justice.gov/enrd/consent-decrees. We will provide a paper copy of the Amended Consent Decree upon written request and payment of reproduction costs. Please mail your request and payment to: Consent Decree Library, U.S. DOJ—ENRD, P.O. Box 7611, Washington, DC 20044-7611.

Please enclose a check or money order for $7.75 (25 cents per page reproduction cost) payable to the United States Treasury.

Patricia McKenna,
Assistant Section Chief, Environmental Enforcement Section, Environment and Natural Resources Division.

[FR Doc. 2021-04584 Filed 3-4-21; 8:45 am]

BILLING CODE 4410-15-P